DEPARTMENT OF LABOR

Occupational Safety and Health Administration

[Docket No. OSHA-2021-0001]

National Advisory Committee on Occupational Safety and Health (NACOSH): Notice of Meeting

AGENCY: Occupational Safety and Health Administration (OSHA), Labor.

ACTION: Notice of NACOSH meeting.

SUMMARY: The National Advisory Committee on Occupational Safety and Health (NACOSH) will meet Tuesday, November 16, 2021, by teleconference and WebEx.

DATES: NACOSH will meet from 1:00 p.m. to 5:00 p.m., ET, Tuesday, November 16, 2021.

ADDRESSES:

Submission of comments and requests to speak: Submit comments and requests to speak at the NACOSH meeting by November 9, 2021, identified by the docket number for this Federal Register notice (Docket No. OSHA-2021-0001), using the following method:

Electronically: Comments and request to speak, including attachments, must be submitted electronically at: http://www.regulations.gov, the Federal eRulemaking Portal. Follow the online instructions for submitting comments.

Requests for special accommodations: Submit requests for special accommodations for this NACOSH meeting by Tuesday, November 9, 2021, to Ms. Carla Marcellus, Directorate of Standards and Guidance, OSHA, U.S. Department of Labor; telephone: (202) 693-1865; email: marcellus.carla@dol.gov.

Instructions: All submissions must include the agency name and the OSHA docket number for this Federal Register notice (Docket No. OSHA-2021-0001). OSHA will place comments and requests to speak, including personal information, in the public docket, which may be available online. Therefore, OSHA cautions interested parties about submitting personal information such as Social Security numbers and birthdates.

Docket: To read or download documents in the public docket for this NACOSH meeting, go to http://www.regulations.gov. All documents in the public docket are listed in the index; however, some documents (e.g., copyrighted material) are not publicly available to read or download through http://www.regulations.gov. All submissions are available for inspection and, when permitted, copying through the OSHA Docket Office. For information on using http://www.regulations.gov to make submissions or to access the docket, click on the “Help” tab at the top of the homepage. Contact the OSHA Docket Office at (202) 693-2350 for information about materials not available through that website and for assistance in using the internet to locate submissions and other documents in the docket.

FOR FURTHER INFORMATION CONTACT:

For press inquiries: Mr. Frank Meilinger, Director, OSHA Office of Communications, U.S. Department of Labor; telephone: (202) 693-1999; email: meilinger.francis2@dol.gov.

For general information about NACOSH: Ms. Amy Wangdahl, Director, Office of Maritime and Agriculture, OSHA, U.S. Department of Labor; telephone: (202) 693-2066; email: wangdahl.amy@dol.gov.

Telecommunication requirements: For additional information about the telecommunication requirements for the meeting, please contact Ms. Carla Marcellus, Directorate of Standards and Guidance, OSHA, U.S. Department of Labor; telephone: (202) 693-1865; email: marcellus.carla@dol.gov.

For copies of this Federal Register Notice: Electronic copies of this Federal Register notice are available at http://www.regulations.gov. This notice, as well as news releases and other relevant information, are also available at OSHA's web page at www.osha.gov.

SUPPLEMENTARY INFORMATION:

I. Background

NACOSH was established by Section 7(a) of the Occupational Safety and Health Act of 1970 (OSH Act) (29 U.S.C. 651, 656) to advise, consult with, and make recommendations to the Secretary of Labor and the Secretary of Health and Human Services on matters relating to the administration of the OSH Act. NACOSH is a continuing advisory committee of indefinite duration.

NACOSH operates in accordance with the Federal Advisory Committee Act (FACA) (5 U.S.C. App. 2), its implementing regulations (41 CFR part 102-3), and OSHA's regulations on NACOSH (29 CFR part 1912a).

II. Meeting Information

Attendance at this NACOSH meeting will be by teleconference and WebEx only. The teleconference dial-in number and passcode are as follows: Dial-in number: 1-800-621-7762; Passcode: 2239082 and the WebEx link is: https://usdolee.webex.com/usdolee/onstage/g.php?MTID=e15a19ce17d08e2ad4a361f785aa6cce9 and the meeting password is: Welcome!24. The tentative agenda will include agency updates from OSHA and NIOSH, a discussion of OSHA's work on heat illness, and a discussion on risk-based safety.

Authority and Signature

Amanda L. Edens, Deputy Assistant Secretary of Labor for Occupational Safety and Health, authorized the preparation of this notice under the authority granted by 29 U.S.C. 655(b)(1) and 656(b), 5 U.S.C. App. 2, and 29 CFR part 1912 and 1912a.

Signed at Washington, DC, on October 20, 2021.
Amanda L. Edens,
Deputy Assistant Secretary of Labor for Occupational Safety and Health.

[FR Doc. 2021-23704 Filed 10-29-21; 8:45 am]

BILLING CODE 4510-26-P